DEPARTMENT OF HOMELAND SECURITY

Coast Guard

33 CFR Part 165

[Docket No. USCG-2016-0145]

Safety Zone; Cincinnati Reds Season Fireworks

AGENCY: Coast Guard, DHS.

ACTION: Notice of enforcement of regulation.

SUMMARY: The Coast Guard will enforce a safety zone for the Cincinnati Reds Season Fireworks on the Ohio River, from mile marker 470.1 and ending at 470.4, extending 500 feet from the State of Ohio shoreline. This rule is effective during specific home games during the Major League Baseball season. Should the Cincinnati Reds make the playoffs and have additional home games; the Coast Guard will provide notification of enforcement periods via Broadcast Notices to Mariners, Local Notices to Mariners, and/or Marine Safety Information Bulletins as appropriate. This action is needed to protect vessels transiting the area and event spectators from the hazards associated with the Cincinnati Reds Barge-based fireworks. During the enforcement period, entry into or transiting in the safety zone is prohibited to all vessels not registered with the sponsor as participants or official patrol vessels.

DATES: The regulations in 33 CFR 165.801, Table No. 1, Line no. 2 will be enforced from 9:00 p.m. through 11:30 p.m. on April 6, April 8, April 22, May 6, May 20, June 3, June 10, June 24, July 15, July 22, July 31, August 19, September 2, September 16, and September 30, 2016.

FOR FURTHER INFORMATION CONTACT: If you have questions about this notice of enforcement, call or email Caloeb Gandy, Sector Ohio Valley, U.S. Coast Guard at telephone 502-779-5334, email caloeb.l.gandy@uscg.mil.

SUPPLEMENTARY INFORMATION: The Coast Guard will enforce the safety zone for the Cincinnati Reds Season Fireworks listed in 33 CFR 165.801, Table no. 1, Line no. 2. These regulations can be found in the Code of Federal Regulations, under 33 CFR 165.801 or in the Federal Register (77 FR 12460). As specified in § 165.801, during the enforcement period no vessel may transit this safety zone without approval from the Captain of the Port Ohio Valley (COTP). If permission is granted, all persons and vessels shall comply with the instructions of the COTP or designated representative.

This notice of enforcement is issued under authority of 33 CFR part 165 and 5 U.S.C. 552(a). In addition to this notice of enforcement in the Federal Register, the Coast Guard will provide the maritime community with advanced notification of this enforcement period via Local Notice to Mariners (LNM) and Broadcast Notice to Mariners (BNM). If the COTP Ohio Valley determines that the regulated area need not be enforced for the full duration, a BNM to grant general permission to enter the safety zone may be used.

Dated: March 24, 2016.
R.V. Timme,
Captain, U.S. Coast Guard, Captain of the Port Ohio Valley.

[FR Doc. 2016-13584 Filed 6-7-16; 8:45 am]

BILLING CODE 9110-04-P